DEPARTMENT OF COMMERCE

National Oceanic and Atmospheric Administration

50 CFR Part 622

[Docket No. 120718255-3500-02]

RIN 0648-BC38

Amendment 4 to the Corals and Reef Associated Plants and Invertebrates Fishery Management Plan of Puerto Rico and the U.S. Virgin Islands; Seagrass Management

AGENCY: National Marine Fisheries Service (NMFS), National Oceanic and Atmospheric Administration (NOAA), Commerce.

ACTION: Final rule.

SUMMARY: NMFS issues this final rule to implement Amendment 4 to the Corals and Reef Associated Plants and Invertebrates Fishery Management Plan (FMP) of Puerto Rico and the U.S. Virgin Islands (USVI) (Coral FMP), as prepared and submitted by the Caribbean Fishery Management Council (Council). This final rule removes seagrass species from the Coral FMP. The purpose of this rule and Amendment 4 to the Coral FMP is to address the future management of seagrasses in the U.S. Caribbean exclusive economic zone (EEZ) in accordance with the Magnuson-Stevens Fishery Conservation and Management Act (Magnuson-Stevens Act).

DATES: This rule is effective July 5, 2013.

ADDRESSES: Electronic copies of Amendment 4 to the Coral FMP, which include an Environmental Assessment, a Regulatory Flexibility Act analysis, a regulatory impact review, and a fishery impact statement, may be obtained from the Southeast Regional Office Web site at: http://sero.nmfs.noaa.gov/index.html.

FOR FURTHER INFORMATION CONTACT: Maria del Mar Lopez, Southeast Regional Office, NMFS, telephone: 727-824-5305, or email: Maria.Lopez@noaa.gov.

SUPPLEMENTARY INFORMATION: Seagrasses in the U.S. Caribbean EEZ are managed under the Coral FMP. The Coral FMP was prepared by the Council and is implemented under the authority of the Magnuson-Stevens Act by regulations at 50 CFR part 622.

On February 25, 2013, NMFS published a notice of availability for Amendment 4 and requested comments (78 FR 12703). On March 6, 2013, NMFS published a proposed rule for Amendment 4 to the Coral FMP and requested public comments (78 FR 14503). The proposed rule and Amendment 4 to the Coral FMP outline the rationale for the actions contained in this final rule. Amendment 4 to the Coral FMP was approved by the Secretary of Commerce on May 23, 2013. A summary of the actions implemented by this final rule is provided below.

This final rule removes seagrass species from the Coral FMP. The Council determined that Federal management of these seagrass species is unnecessary because there is no known harvest of seagrasses, and these species occur predominantly in Puerto Rico commonwealth and USVI territorial waters (state waters). In addition, seagrasses are designated as essential fish habitat (EFH) for stocks within the four Council FMPs (Queen Conch Resources of Puerto Rico and the USVI, Reef Fish Fishery of Puerto Rico and the USVI, Spiny Lobster Fishery of Puerto Rico and the USVI, and Coral) and as habitat areas of particular concern (HAPC) within special areas in state waters, and will continue to be protected by these designations.

Other Changes Contained in This Final Rule

In 50 CFR part 622, Appendix A, NMFS removes the text regarding aquarium trade species as being in the “data collection” category in the Coral FMP and the Reef Fish Fishery of Puerto Rico and the USVI FMP (Table 1 and Table 2).

NMFS has also determined that the description of waypoints B and C in the Puerto Rico Management Area (in Table 1) and waypoints B and C in the St. Thomas/St. John Management Area (in Table 3), as well as the boundary line that connects these two waypoints, were incorrectly described in the final rule for the 2010 Caribbean ACL Amendment. NMFS removes the description for points B and C in Appendix E, and maintains just the waypoints because they are sufficient descriptions of the boundary in those instances. NMFS also revises the description of the boundary line that connects waypoints B and C in Appendix E to be “the 3-nautical mile Territorial boundary of the St. Thomas/St. John island group” instead of “the EEZ/Territorial boundary,” to be consistent with the Council's intent for the specification of these Caribbean island management areas. Additionally, NMFS has determined that two boundary lines, one in the St. Croix Management Area (in Table 2) and one in the St. Thomas/St. John Management Area (in Table 3), were incorrectly described as the “EEZ/Territorial boundary” and are revised to “International/EEZ boundary.” These revisions are consistent with the Council's intent for the specification of these Caribbean island management areas.

Comments and Responses

NMFS received a total of three comments on Amendment 4 to the Coral FMP and the proposed rule. A Federal agency had no comments on the actions in Amendment 4 to the Coral FMP. One comment was unrelated to the actions in Amendment 4 to the Coral FMP. The specific comment related to the actions contained in the amendment or the proposed rule is summarized and responded to below.

Comment: Seagrasses are important fish breeding habitat and in addition to being protected from harvest, they should also be protected from physical damage (e.g., sand harvesting, anchoring, mooring, traps).

Response: NMFS agrees that seagrasses are important fish habitats. However, because there is no known direct harvest of seagrasses and these species occur predominately in state waters, the Council determined that Federal management of these species would serve no useful purpose. That decision does not mean that seagrasses are unprotected. Seagrass habitat is already protected by EFH and HAPC designations in the four Caribbean Fishery Management Council FMPs (Queen Conch Resources of Puerto Rico and the USVI, Reef Fish Fishery of Puerto Rico and the USVI, Spiny Lobster Fishery of Puerto Rico and the USVI, and Coral). This rule will not affect those EFH and HAPC designations. To the extent that seagrasses are present in Federal waters, this habitat is protected by anchoring restrictions in some areas and year-round prohibitions on the use of pots, traps, bottom longlines, gillnets, or trammel nets in Federal closed areas. Other management measures, such as the prohibition on the use of chemicals, plant or plant-derived toxins, and explosives to harvest reef-associated species, as well as restricting to hand-held dip nets and slurp guns the allowable gear for collecting marine aquarium fishes, provide direct and indirect physical benefits to the seagrass habitat by protecting it from the adverse effects of specific fishing gear.

Changes From the Proposed Rule

In 50 CFR Part 622 Appendix A Tables 1 and 2, NMFS has identified several species names that contained misspellings. These misspellings are corrected in this final rule.

Classification

The Regional Administrator, Southeast Region, NMFS, has determined that the actions contained in this final rule are consistent with Amendment 4 to the Coral FMP, the Magnuson-Stevens Act and other applicable law.

This final rule has been determined to be not significant for purposes of Executive Order 12866.

The Chief Counsel for Regulation of the Department of Commerce certified to the Chief Counsel for Advocacy of the Small Business Administration during the proposed rule stage that this action would not have a significant economic impact on a substantial number of small entities. The factual basis for this certification was published in the proposed rule and is not repeated here. No comments were received regarding the certification and NMFS has not received any new information that would affect its determination. No changes to the final rule were made in response to public comments. As a result, a regulatory flexibility analysis was not required and none was prepared.

List of Subjects in 50 CFR Part 622

Fisheries, Fishing, Puerto Rico, Seagrass, Virgin Islands.

Dated: May 30, 2013.
Alan D. Risenhoover,
Director, Office of Sustainable Fisheries, performing the functions and duties of the Deputy Assistant Administrator for Regulatory Programs, National Marine Fisheries Service.

For the reasons set out in the preamble, 50 CFR Part 622 is amended as follows:

PART 622—FISHERIES OF THE CARIBBEAN, GULF, AND SOUTH ATLANTIC

1. The authority citation for part 622 continues to read as follows:

Authority: 16 U.S.C. 1801 et seq.

2. In Appendix A to part 622, Tables 1 and 2 are revised to read as follows:

Appendix A to Part 622—Species Tables

Table 1 of Appendix A to Part 622—Caribbean Coral Reef Resources

I. Coelenterates—Phylum Coelenterata

A. Hydrocorals—Class Hydrozoa

1. Hydroids—Order Anthoathecata

Family Milleporidae

Millepora spp., Fire corals

Family Stylasteridae

Stylaster roseus, Rose lace corals

B. Anthozoans—Class Anthozoa

1. Soft corals—Order Alcyonacea

Family Anthothelidae

Erythropodium caribaeorum, Encrusting gorgonian

Iciligorgia schrammi, Deepwater sea fan

Family Briareidae

Briareum asbestinum, Corky sea finger

Family Clavulariidae

Carijoa riisei

Telesto spp.

2. Gorgonian corals—Order Gorgonacea

Family Ellisellidae

Ellisella spp., Sea whips

Family Gorgoniidae

Gorgonia flabellum, Venus sea fan

G. mariae, Wide-mesh sea fan

G. ventalina, Common sea fan

Pseudopterogorgia acerosa, Sea plume

P. albatrossae

P. americana, Slimy sea plume

P. bipinnata, Bipinnate plume

P. rigida

Pterogorgia anceps, Angular sea whip

P. citrina, Yellow sea whip

Family Plexauridae

Eunicea calyculata, Warty sea rod

E. clavigera

E. fusca, Doughnut sea rod

E. knighti

E. laciniata

E. laxispica

E. mammosa, Swollen-knob

E. succinea, Shelf-knob sea rod

E. touneforti

Muricea atlantica

M. elongata, Orange spiny rod

M. laxa, Delicate spiny rod

M. muricata, Spiny sea fan

M. pinnata, Long spine sea fan

Muriceopsis spp.

M. flavida, Rough sea plume

M. sulphurea

Plexaura flexuosa, Bent sea rod

P. homomalla, Black sea rod

Plexaurella dichotoma, Slit-pore sea rod

P. fusifera

P. grandiflora

P. grisea

P. nutans, Giant slit-pore

Pseudoplexaura crucis

P. flagellosa

P. porosa, Porous sea rod

P. wagenaari

3. Hard Corals—Order Scleractinia

Family Acroporidae

Acropora cervicornis, Staghorn coral

A. palmata, Elkhorn coral

A. prolifera, Fused staghorn

Family Agaricidae

Agaricia agaricites, Lettuce leaf coral

A. fragilis, Fragile saucer

A. lamarcki, Lamarck's sheet

A. tenuifolia, Thin leaf lettuce

Leptoseris cucullata, Sunray lettuce

Family Astrocoeniidae

Stephanocoenia michelinii, Blushing star

Family Caryophylliidae

Eusmilia fastigiata, Flower coral

Tubastrea aurea, Cup coral

Family Faviidae

Cladocora arbuscula, Tube coral

Colpophyllia natans, Boulder coral

Diploria clivosa, Knobby brain coral

D. labyrinthiformis, Grooved brain

D. strigosa, Symmetrical brain

Favia fragum, Golfball coral

Manicina areolata, Rose coral

M. mayori, Tortugas rose coral

Montastrea annularis, Boulder star coral

M. cavernosa, Great star coral

Solenastrea bournoni, Smooth star coral

Family Meandrinidae

Dendrogyra cylindrus, Pillar coral

Dichocoenia stellaris, Pancake star

D. stokesi, Elliptical star

Meandrina meandrites, Maze coral

Family Mussidae

Isophyllastrea rigida, Rough star coral

Isophyllia sinuosa, Sinuous cactus

Mussa angulosa, Large flower coral

Mycetophyllia aliciae, Thin fungus coral

M. danae, Fat fungus coral

M. ferox, Grooved fungus

M. lamarckiana, Fungus coral

Scolymia cubensis, Artichoke coral

S. lacera, Solitary disk

Family Oculinidae

Oculina diffusa, Ivory bush coral

Family Pocilloporidae

Madracis decactis, Ten-ray star coral

M. mirabilis, Yellow pencil

Family Poritidae

Porites astreoides, Mustard hill coral

P. branneri, Blue crust coral

P. divaricata, Small finger coral

P. porites, Finger coral

Family Rhizangiidae

Astrangia solitaria, Dwarf cup coral

Phyllangia americana, Hidden cup coral

Family Siderastreidae

Siderastrea radians, Lesser starlet

S. siderea, Massive starlet

4. Black Corals—Order Antipatharia

Antipathes spp., Bushy black coral

Stichopathes spp., Wire coral

II. [Reserved]

Aquarium Trade Species in the Caribbean Coral FMP

I. Sponges—Phylum Porifera

A. Demosponges—Class Demospongiae

Amphimedon compressa, Erect rope sponge

Chondrilla nucula, Chicken liver sponge

Cinachyrella alloclada

Geodia neptuni, Potato sponge

Haliclona spp., Finger sponge

Myriastra spp.

Niphates digitalis, Pink vase sponge

N. erecta, Lavender rope sponge

Spinosella plicifera

S. vaginalis

Tethya crypta

II. Coelenterates—Phylum Coelenterata

A. Anthozoans—Class Anthozoa

1. Anemones—Order Actiniaria

Aiptasia tagetes, Pale anemone

Bartholomea annulata, Corkscrew anemone

Condylactis gigantea, Giant pink-tipped anemone

Heteractis lucida, Knobby anemone

Lebrunia spp., Staghorn anemone

Stichodactyla helianthus, Sun anemone

2. Colonial Anemones—Order Zoanthidea

Zoanthus spp., Sea mat

3. False Corals—Order Corallimorpharia

Discosoma spp. (formerly Rhodactis), False coral

Ricordea florida, Florida false coral

III. Annelid Worms—Phylum Annelida

A. Polychaetes—Class Polychaeta

Family Sabellidae, Feather duster worms

Sabellastarte spp., Tube worms

S. magnifica, Magnificent duster

Family Serpulidae

Spirobranchus giganteus, Christmas tree worm

IV. Mollusks—Phylum Mollusca

A. Gastropods—Class Gastropoda

Family Elysiidae

Tridachia crispata, Lettuce sea slug

Family Olividae

Oliva reticularis, Netted olive

Family Ovulidae

Cyphoma gibbosum, Flamingo tongue

B. Bivalves—Class Bivalvia

Family Limidae

Lima spp., Fileclams

L. scabra, Rough fileclam

Family Spondylidae

Spondylus americanus, Atlantic thorny oyster

C. Cephalopods—Class Cephalopoda

1. Octopuses—Order Octopoda

Family Octopodidae

Octopus spp. (except the Common octopus, O. vulgaris)

V. Arthropods—Phylum Arthropoda

A. Crustaceans—Subphylum Crustacea

1. Decapods—Order Decapoda

Family Alpheidae

Alpheus armatus, Snapping shrimp

Family Diogenidae

Paguristes spp., Hermit crabs

P. cadenati, Red reef hermit

Family Grapsidae

Percnon gibbesi, Nimble spray crab

Family Hippolytidae

Lysmata spp., Peppermint shrimp

Thor amboinensis, Anemone shrimp

Family Majidae, Coral crabs

Mithrax spp., Clinging crabs

M. cinctimanus, Banded clinging

M. sculptus, Green clinging

Stenorhynchus seticornis, Yellowline arrow

Family Palaemonida

Periclimenes spp., Cleaner shrimp

Family Squillidae, Mantis crabs

Gonodactylus spp.

Lysiosquilla spp.

Family Stenopodidae, Coral shrimp

Stenopus hispidus, Banded shrimp

S. scutellatus, Golden shrimp

VI. Echinoderms—Phylum Echinodermata

A. Feather stars—Class Crinoidea

Analcidometra armata, Swimming crinoid

Davidaster spp., Crinoids

Nemaster spp., Crinoids

B. Sea stars—Class Asteroidea

Astropecten spp., Sand stars

Linckia guildingii, Common comet star

Ophidiaster guildingii, Comet star

Oreaster reticulatus, Cushion sea star

C. Brittle and basket stars—Class Ophiuroidea

Astrophyton muricatum, Giant basket star

Ophiocoma spp., Brittlestars

Ophioderma spp., Brittlestars

O. rubicundum, Ruby brittlestar

D. Sea Urchins—Class Echinoidea

Diadema antillarum, Long-spined urchin

Echinometra spp., Purple urchin

Eucidaris tribuloides, Pencil urchin

Lytechinus spp., Pin cushion urchin

Tripneustes ventricosus, Sea egg

E. Sea Cucumbers—Class Holothuroidea

Holothuria spp., Sea cucumbers

VII. Chordates—Phylum Chordata

A. Tunicates—Subphylum Urochordata

Table 2 of Appendix A to Part 622—Caribbean Reef Fish

Lutjanidae—Snappers

Unit 1

Black snapper, Apsilus dentatus

Blackfin snapper, Lutjanus buccanella

Silk snapper, Lutjanus vivanus

Vermilion snapper, Rhomboplites aurorubens

Wenchman, Pristipomoides aquilonaris

Unit 2

Cardinal, Pristipomoides macrophthalmus

Queen snapper, Etelis oculatus

Unit 3

Gray snapper, Lutjanus griseus

Lane snapper, Lutjanus synagris

Mutton snapper, Lutjanus analis

Dog snapper, Lutjanus jocu

Schoolmaster, Lutjanus apodus

Mahogany snapper, Lutjanus mahogoni

Unit 4

Yellowtail snapper, Ocyurus chrysurus

Serranidae—Sea basses and Groupers

Unit 1

Nassau Grouper, Epinephelus striatus

Unit 2

Goliath grouper, Epinephelus itajara

Unit 3

Coney, Epinephelus fulvus

Graysby, Epinephelus cruentatus

Red hind, Epinephelus guttatus

Rock hind, Epinephelus adscensionis

Unit 4

Black grouper, Mycteroperca bonaci

Red grouper, Epinephelus morio

Tiger grouper, Mycteroperca tigris

Yellowfin grouper, Mycteroperca venenosa

Unit 5

Misty grouper, Epinephelus mystacinus

Yellowedge grouper, Epinephelus flavolimbatus

Haemulidae—Grunts

White grunt, Haemulon plumierii

Margate, Haemulon album

Tomtate, Haemulon aurolineatum

Bluestriped grunt, Haemulon sciurus

French grunt, Haemulon flavolineatum

Porkfish, Anisotremus virginicus

Mullidae—Goatfishes

Spotted goatfish, Pseudupeneus maculatus

Yellow goatfish, Mulloidichthys martinicus

Sparidae—Porgies

Jolthead porgy, Calamus bajonado

Sea bream, Archosargus rhomboidalis

Sheepshead porgy, Calamus penna

Pluma, Calamus pennatula

Holocentridae—Squirrelfishes

Blackbar soldierfish, Myripristis jacobus

Bigeye, Priacanthus arenatus

Longspine squirrelfish, Holocentrus rufus

Squirrelfish, Holocentrus adscensionis

Malacanthidae—Tilefishes

Blackline tilefish, Caulolatilus cyanops

Sand tilefish, Malacanthus plumieri

Carangidae—Jacks

Blue runner, Caranx crysos

Horse-eye jack, Caranx latus

Black jack, Caranx lugubris

Almaco jack, Seriola rivoliana

Bar jack, Caranx ruber

Greater amberjack, Seriola dumerili

Yellow jack, Caranx bartholomaei

Scaridae—Parrotfishes

Blue parrotfish, Scarus coeruleus

Midnight parrotfish, Scarus coelestinus

Princess parrotfish, Scarus taeniopterus

Queen parrotfish, Scarus vetula

Rainbow parrotfish, Scarus guacamaia

Redfin parrotfish, Sparisoma rubripinne

Redtail parrotfish, Sparisoma chrysopterum

Stoplight parrotfish, Sparisoma viride

Redband parrotfish, Sparisoma aurofrenatum

Striped parrotfish, Scarus croicensis

Acanthuridae—Surgeonfishes

Blue tang, Acanthurus coeruleus

Ocean surgeonfish, Acanthurus bahianus

Doctorfish, Acanthurus chirurgus

Balistidae—Triggerfishes

Ocean triggerfish, Canthidermis sufflamen

Queen triggerfish, Balistes vetula

Sargassum triggerfish, Xanthichthys ringens

Monacanthidae—Filefishes

Scrawled filefish, Aluterus scriptus

Whitespotted filefish, Cantherhines macrocerus

Black durgon, Melichthys niger

Ostraciidae—Boxfishes

Honeycomb cowfish, Lactophrys polygonia

Scrawled cowfish, Lactophrys quadricornis

Trunkfish, Lactophrys trigonus

Spotted trunkfish, Lactophrys bicaudalis

Smooth trunkfish, Lactophrys triqueter

Labridae—Wrasses

Hogfish, Lachnolaimus maximus

Puddingwife, Halichoeres radiatus

Spanish hogfish, Bodianus rufus

Pomacanthidae—Angelfishes

Queen angelfish, Holacanthus ciliaris

Gray angelfish, Pomacanthus arcuatus

French angelfish, Pomacanthus paru

Aquarium Trade Species in the Caribbean Reef Fish FMP:

Frogfish, Antennarius spp.

Flamefish, Apogon maculatus

Conchfish, Astrapogon stellatus

Redlip blenny, Ophioblennius atlanticus

Peacock flounder, Bothus lunatus

Longsnout butterflyfish, Chaetodon aculeatus

Foureye butterflyfish, Chaetodon capistratus

Spotfin butterflyfish, Chaetodon ocellatus

Banded butterflyfish, Chaetodon striatus

Redspotted hawkfish, Amblycirrhitus pinos

Flying gurnard, Dactylopterus volitans

Atlantic spadefish, Chaetodipterus faber

Neon goby, Gobiosoma oceanops

Rusty goby, Priolepis hipoliti

Royal gramma, Gramma loreto

Creole wrasse, Clepticus parrae

Yellowcheek wrasse, Halichoeres cyanocephalus

Yellowhead wrasse, Halichoeres garnoti

Clown wrasse, Halichoeres maculipinna

Pearly razorfish, Hemipteronotus novacula

Green razorfish, Hemipteronotus splendens

Bluehead wrasse, Thalassoma bifasciatum

Chain moray, Echidna catenata

Green moray, Gymnothorax funebris

Goldentail moray, Gymnothorax miliaris

Batfish, Ogcocephalus spp.

Goldspotted eel, Myrichthys ocellatus

Yellowhead jawfish, Opistognathus aurifrons

Dusky jawfish, Opistognathus whitehursti

Cherubfish, Centropyge argi

Rock beauty, Holacanthus tricolor

Sergeant major, Abudefduf saxatilis

Blue chromis, Chromis cyanea

Sunshinefish, Chromis insolata

Yellowtail damselfish, Microspathodon chrysurus

Dusky damselfish, Pomacentrus fuscus

Beaugregory, Pomacentrus leucostictus

Bicolor damselfish, Pomacentrus partitus

Threespot damselfish, Pomacentrus planifrons

Glasseye snapper, Priacanthus cruentatus

High-hat, Equetus acuminatus

Jackknife-fish, Equetus lanceolatus

Spotted drum, Equetus punctatus

Scorpaenidae—Scorpionfishes

Butter hamlet, Hypoplectrus unicolor

Swissguard basslet, Liopropoma rubre

Greater soapfish, Rypticus saponaceus

Orangeback bass, Serranus annularis

Lantern bass, Serranus baldwini

Tobaccofish, Serranus tabacarius

Harlequin bass, Serranus tigrinus

Chalk bass, Serranus tortugarum

Caribbean tonguefish, Symphurus arawak

Seahorses, Hippocampus spp.

Pipefishes, Syngnathus spp.

Sand diver, Synodus intermedius

Sharpnose puffer, Canthigaster rostrata

Porcupinefish, Diodon hystrix

* * * * *

3. Appendix E to part 622 is revised to read as follows:

Appendix E to Part 622—Caribbean Island/Island Group Management Areas

Table 1 of Appendix E to Part 622—Coordinates of the Puerto Rico Management Area.

The Puerto Rico management area is bounded by rhumb lines connecting, in order, the following points.

Point | North latitude | West longitude
A (intersects with the International/EEZ boundary) | 19°37′29″ | 65°20′57″
B | 18°25′46.3015″ | 65°06′31.866″
From Point B, proceed southerly along the 3-nautical mile Territorial boundary of the St. Thomas/St. John island group to Point C
C | 18°13′59.0606″ | 65°05′33.058″
D | 18°01′16.9636″ | 64°57′38.817″
E | 17°30′00.000″ | 65°20′00.1716″
F | 16°02′53.5812″ | 65°20′00.1716″'
From Point F, proceed southwesterly, then northerly, then easterly, and finally southerly along the International/EEZ boundary to Point A
A (intersects with the International/EEZ boundary) | 19°37′29″ | 65°20′57″

Table 2 of Appendix E to Part 622—Coordinates of the St. Croix Management Area.

The St. Croix management area is bounded by rhumb lines connecting, in order, the following points.

Point | North latitude | West longitude
G | 18°03′03″ | 64°38′03″
From Point G, proceed easterly, then southerly, then southwesterly along the International/EEZ boundary to Point F
F | 16°02′53.5812″ | 65°20′00.1716″
E | 17°30′00.000″ | 65°20′00.1716″
D | 18°01′16.9636″ | 64°57′38.817″
G | 18°03′03″ | 64°38′03″

Table 3 of Appendix E to Part 622—Coordinates of the St. Thomas/St. John Management Area.

The St. Thomas/St. John management area is bounded by rhumb lines connecting, in order, the following points.

Point | North latitude | West longitude
A (intersects with the International/EEZ boundary) | 19°37′29″ | 65°20′57″
From Point A, proceed southeasterly along the International/EEZ boundary to Point G
G | 18°03′03″ | 64°38′03″
D | 18°01′16.9636″ | 64°57′38.817″
C | 18°13′59.0606″ | 65°05′33.058″
From Point C, proceed northerly along the 3-nautical mile Territorial boundary of the St. Thomas/St. John island group to Point B
B | 18°25′46.3015″ | 65°06′31.866″
A (intersects with the International/EEZ boundary) | 19°37′29″ | 65°20′57″

[FR Doc. 2013-13194 Filed 6-3-13; 8:45 am]

BILLING CODE 3510-22-P